DEPARTMENT OF ENERGY

Federal Energy Regulatory Commission

Combined Notice of Filings #2

Take notice that the Commission received the following electric corporate filings:

Docket Numbers: EC12-21-000.

Applicants: ITC Midwest LLC.

Description: Filing of Clarification of ITC Midwest LLC.

Filed Date: 02/01/2012.

Accession Number: 20120201-5181.

Comment Date: 5 pm ET 2/13/12.

Take notice that the Commission received the following electric rate filings:

Docket Numbers: ER97-4143-025; ER11-46-002; ER10-2975-002; ER98-542-027.

Applicants: American Electric Power Service Corporation, AEP Energy Partners, Inc., CSW Energy Services, Inc., Central and South West Services, Inc.

Description: Notice of change in status of American Electric Power Service Corporation, et al.

Filed Date: 1/31/12.

Accession Number: 20120131-5418.

Comments Due: 5 pm ET 2/21/12.

Docket Numbers: ER10-1827-001; ER10-1825-001.

Applicants: Cleco Power LLC, Cleco Evangeline LLC.

Description: Cleco Power LLC, et al submits a notice of non material change in status.

Filed Date: 1/31/12.

Accession Number: 20120131-5415.

Comments Due: 5 pm ET 2/21/12.

Docket Numbers: ER10-2034-002; ER10-2032-003; ER10-2033-003; ER11-2064-002; ER11-2079-002; ER11-2069-001; ER11-2063-001; ER11-2066-002; ER10-1330-002; ER10-1329-002.

Applicants: Duke Energy Ohio, Inc., Duke Energy Kentucky, Inc., Duke Energy Indiana, Inc., North Allegheny Wind, LLC, Duke Energy Vermillion II, LLC, Duke Energy Hanging Rock II, LLC, Duke Energy Lee II, LLC, Duke Energy Fayette II, LLC,Duke Energy Washington II, LLC, St. Paul Cogeneration, LLC.

Description: Notice of change in status of Duke Energy Indiana, Inc., et al.

Filed Date: 2/1/12.

Accession Number: 20120201-5156.

Comments Due: 5 pm ET 2/22/12.

Docket Numbers: ER10-2502-001; ER11-2474-003; ER10-2081-001; ER10-2472-001; ER10-2473-001; ER10-2298-002.

Applicants: Black Hills/Colorado Electric Utility Co, LP, Black Hills Colorado IPP, LLC, Black Hills Power, Inc, Black Hills Wyoming, LLC, Cheyenne Light, Fuel and Power Company, Enserco Energy Inc.

Description: Notification of Change in Status of Black Hills/Colorado Electric Utility Company, LP, et al.

Filed Date: 1/31/12.

Accession Number: 20120131-5414.

Comments Due: 5 pm ET 2/21/12.

Docket Numbers: ER12-962-000.

Applicants: ISO New England Inc.

Description: Metadata Clean-up Filing to be effective 6/1/2012.

Filed Date: 2/1/12.

Accession Number: 20120201-5128.

Comments Due: 5 pm ET 2/22/12.

Docket Numbers: ER12-963-000.

Applicants: Southern California Edison Company.

Description: Amended SGIA WDAT SCE-SEPV 2 LLC SEPV 5 Project to be effective 4/2/2012.

Filed Date: 2/1/12.

Accession Number: 20120201-5131.

Comments Due: 5 pm ET 2/22/12.

Docket Numbers: ER12-964-000.

Applicants: CalPeak Power LLC.

Description: Notice of Non-Material Change in Status—February 1, 2012 to be effective 4/1/2012.

Filed Date: 2/1/12.

Accession Number: 20120201-5135.

Comments Due: 5 pm ET 2/22/12.

Docket Numbers: ER12-965-000.

Applicants: Starwood Power-Midway LLC.

Description: Notice of Non-Material Change in Status—February 1, 2012 to be effective 4/1/2012.

Filed Date: 2/1/12.

Accession Number: 20120201-5136.

Comments Due: 5 pm ET 2/22/12.

Docket Numbers: ER12-966-000.

Applicants: Pacific Gas and Electric Company.

Description: Notices of Termination of Service Agreement Nos. 37 and 85 under PG&E FERC Electric Tariff Volume No. 5 of Pacific Gas and Electric Company.

Filed Date: 1/31/12.

Accession Number: 20120131-5416.

Comments Due: 5 pm ET 2/21/12.

Docket Numbers: ER12-967-000.

Applicants: Florida Power Corporation.

Description: Revised Rate Schedule 212 of Florida Power Corporation to be effective 8/1/2011.

Filed Date: 2/1/12.

Accession Number: 20120201-5140.

Comments Due: 5 pm ET 2/22/12.

Docket Numbers: ER12-968-000.

Applicants: Puget Sound Energy, Inc.

Description: BPA NITSA for Sumas No. 626 to be effective 1/1/2012.

Filed Date: 2/1/12.

Accession Number: 20120201-5141.

Comments Due: 5 pm ET 2/22/12.

Docket Numbers: ER12-969-000.

Applicants: Tampa Electric Company.

Description: Tampa Electric Company submits tariff filing per 35: Wholesale Requirements Rate Case Settlement to be effective 3/1/2011.

Filed Date: 2/1/12.

Accession Number: 20120201-5159.

Comments Due: 5 pm ET 2/22/12.

Take notice that the Commission received the following electric reliability filings:

Docket Numbers: RD12-1-000.

Applicants: North American Electric Reliability Corporation.

Description: Petition of the North American Electric Reliability Corporation for Approval of Proposed Texas Reliability Entity Regional Reliability Standard IRO-006-TRE-1—IROL and SOL Mitigation on the ERCOT Interconnection.

Filed Date: 2/1/12.

Accession Number: 20120201-5127.

Comments Due: 5 pm ET 3/2/12.

The filings are accessible in the Commission's eLibrary system by clicking on the links or querying the docket number.

Any person desiring to intervene or protest in any of the above proceedings must file in accordance with Rules 211 and 214 of the Commission's Regulations (18 CFR 385.211 and 385.214) on or before 5:00 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call 866 208-3676 (toll free). For TTY, call 202 502-8659.

Dated: February 01, 2012.
Nathaniel J. Davis, Sr.,
Deputy Secretary.

[FR Doc. 2012-2835 Filed 2-7-12; 8:45 am]

BILLING CODE 6717-01-P